DEPARTMENT OF JUSTICE

Antitrust Division

Notice Pursuant to the National Cooperative Research and Production Act of 1993—VSI Alliance

Notice is hereby given that, on January 13, 2003, pursuant to Section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Wael Badawy (individual member), Calgary, Alberta, CANADA; Barcelona Design, Inc., Newark, CA; Beijing Microelectronics Technology Institute, Fengtai, Beijing, PEOPLE'S REPUBLIC OF CHINA; CNRS-Centre Nationel De Recherche Scientifique, Paris, FRANCE; CPO Technologies Corporation, Sunnyvale, CA; Digeo Interactive LLC, Longmont, CO; Carolyn Hayden (individual member), Ottawa, Ontario, CANADA; Tomislav Ilic (individual member), San Francisco, CA; Jeda Technologies, Los Altos, CA; LSI Design & Integration Corporation (LDIC), San Jose, CA; NEC Electronics Corporation, Nakahara-ku Kawasaki, JAPAN; Vincent Ratford (individual member), San Jose, CA; WIS Technologies, San Jose, CA; and Christopher Wang (individual member), Costa Mesa, CA have been added as parties to this venture.

Also, Antrim Design Systems, Inc., Scotts Valley, CA; Co-Design Automation, Los Altos, CA; Dolphin Integration, Meylan, FRANCE; Embedded Solutions, Ltd., Abingdon, UNITED KINGDOM; Kyoto University-Department of Communications & Computer Engineering, Kyoto, JAPAN; Zainalabedin Navabi (individual member), Boston, MA; NEC Corporation, Nakahara-Ku Kawasaki, JAPAN; Nortel Networks, Nepean, Ontario, CANADA; Semifore Technologies, Irvine, CA; Simplex Solutions, Inc., Sunnyvale, CA; Spiratech Ltd., Radcliffe, UNITED KINGDOM; Spirea AB, Kista, SWEDEN; TransEDA, Eastleigh, UNITED KINGDOM; Prab Varma (individual member), Mountain View, CA; Vector 12 Corporation, Richmond, British Columbia, CANADA; and Verplex Systems, Inc., Milpitas, CA have been dropped as parties to this venture.

No other changes have been made in either the membership or planned activity of the group research project. Membership in this group research project remains open, and VSI Alliance intends to file additional written notification disclosing all changes in membership.

On November 29, 1996, VSI Alliance filed its original notification pursuant to Section 6(a) of the Act. The Department of Justice published a notice in the Federal Register pursuant to Section 6(b) of the Act on March 4, 1997 (62 FR 9812).

The last notification was filed with the Department on October 9, 2002. A notice was published in the Federal Register pursuant to Section 6(b) of the Act on November 8, 2002 (67 FR 68177).

Constance K. Robinson,
Director of Operations, Antitrust Division.

[FR Doc. 03-3296 Filed 2-10-03; 8:45 am]

BILLING CODE 4410-11-M